DEPARTMENT OF THE INTERIOR

Bureau of Land Management

[CA-660-04-2822]

Notice of Extension of Emergency Temporary Closure (69 FR 16597, March 30, 2004) to Motorized and Mechanized Vehicle Use and Certain Other Uses on Public Lands Administered by the Bureau of Land Management (BLM), Palm Springs-South Coast Field Office, California

AGENCY: Bureau of Land Management, Interior.

ACTION: Notice.

SUMMARY: The BLM Palm Springs-South Coast Field Office is extending an emergency temporary closure order, which closes portions of public lands to motorized and mechanized vehicle use and prohibits or restricts certain other uses, in the South Coast Planning Area in San Diego County, California. The exception to the extended closure will be the Otay Mountain and Minnewawa Truck Trails. These roads will be opened to vehicle access. The extension of the closure is needed to protect stabilization treatments as recommended in the Department of the Interior's Burned Area Emergency Stabilization and Rehabilitation (BAER). Extension of the closure will allow a seed treatment of native species to germinate and establish during one growing season without the threat of trampling from vehicle and other human activities.

[[Page 16598]]

Plan for the Otay fire in San Diego County.

DATES: This extended emergency temporary closure will be in affect from October 30, 2004 until May 31, 2005.

ADDRESSES: Copies of the extended closure and a map of the closed areas can be obtained at the BLM, Palm Springs-South Coast Field Office, 690 West Garnet Avenue, North Palm Springs, CA 92258, telephone (760) 251-4800; BLM, California State Office, 2800 Cottage Way, Room W-1834, Sacramento, CA 95825, Telephone (916) 978-4600. BLM will also announce the extension of the closure through local media outlets, and by posting this notice with a map of the closed areas at key locations that provide access to the closure area.

FOR FURTHER INFORMATION CONTACT: Janaye Byergo, Bureau of Land Management, phone (858) 451-1767 or by e-mail at Janaye_Byergo@ca.blm.gov.

SUPPLEMENTARY INFORMATION: The same conditions and exceptions apply which were stated in the original temporary closure.

The emergency temporary closure is being extended as the conditions for ending the closure have not been met (69 FR 16599, March 30, 2004). Seeding treatments on 250 acres in Sycamore Canyon will be implemented in October 2004. The extension will protect the seeded area from off-highway (OHV) activity and other activities such as recreational target shooting and camping, allowing regeneration of native species. (43 CFR 8341.2, 43 CFR 8364.1)

Gail Acheson,
Palm Springs-South Coast Field Manager.

[FR Doc. 04-21462 Filed 9-23-04; 8:45 am]

BILLING CODE 4310-40-P